SMALL BUSINESS ADMINISTRATION

Public Federal Regulatory Enforcement Fairness Hearing U.S. Small Business Administration Region IX Regulatory Fairness Board

The U.S. Small Business Administration (SBA) Region IX Regulatory Fairness Board and the SBA Office of the National Ombudsman will hold a public hearing on Thursday, July 20, 2006, at 9 a.m. The meeting will take place at the San Diego Unified Port District, Don L. Nay Port Administration Building, 3165 Pacific Highway, San Diego, CA 92101-3500. The purpose of the meeting is to receive comments and testimony from small business owners, small government entities, and small non-profit organizations concerning regulatory enforcement and compliance actions taken by Federal agencies.

Anyone wishing to attend or to make a presentation must contact Cynthia Harris, in writing or by fax, in order to be put on the agenda. Cynthia Harris, Public Information Officer, SBA, 550 West C Street, Suite 550, San Diego, CA 92101-3500, phone (619) 557-7250, Ext. 1155 and fax (619) 557-5894, e-mail: Cynthia.harris@sba.gov.

For more information, see our Web site at http://www.sba.gov/ombudsman.

Matthew K. Becker,
Committee Management Officer.

[FR Doc. E6-10887 Filed 7-11-06; 8:45 am]

BILLING CODE 8025-01-P